ENVIRONMENTAL PROTECTION AGENCY

[ER-FRL-6353-6]

Environmental Impact Statements; Notice of Availability

Responsible Agency: Office of Federal Activities, General Information (202) 564-7167 or www.epa.gov/oeca/ofa

Weekly receipt of Environmental Impact Statements

Filed April 17, 2000 through April 21, 2000

Pursuant to 40 CFR 1506.9.

EIS No. 000122, Final EIS, FHW, WA, U.S. 101 Highway Aberdeen-Hoquiam Corridor Project, Improvements, U.S. Coast Guard and COE Section 404 Permit, Grays Harbor County, WA, Due: May 30, 2000, Contact: Jim Leonard (360) 753-9408.

EIS No. 000123, Final EIS, FHW, WV, US-35 Improvements from Interstate 64 to Henderson, Funding and COE Section 404 Permit, Mason and Putnam Counties, WV, Due: May 30, 2000, Contact: Thomas J. Smith (304) 347-5928.

EIS No. 000124, Draft EIS, FHW, TN, TN-374 (North Parkway) Project, Construction from TN13 to TN 76 in Clarksville, Funding, U.S. Coast Guard and COE Section 404 Permits, Montgomery County, TN, Due: June 12, 2000, Contact: Charles S. Boyd (615) 781-5770.

EIS No. 000125, Final EIS, SFW, WA, Little Pend Oreille National Wildlife Refuge, Implementation, Comprehensive Conservation Plan, Stevens and Pend Oreille Counties, WA, Due: May 30, 2000, Contact: Mike Marxen (503) 590-6596.

EIS No. 000126, Final EIS, AFS, AK, Kuakan Timber Sale, Timber Harvesting in the Kuakan Project Area, Implementation, Deer Island within the Wrangell Ranger District, Stikine Area of the Tongass National Forest, AK, Due: May 30, 2000, Contact: Randy Hojam (907) 874-2323.

EIS No. 000127, Final Supplement, FHW, VA, DC, MD, Woodrow Wilson Bridge Improvements, Updated Information concerning the Changes and Discusses in differences between Alternative 4A of the September 1997 FEIS and Current Design Alternative 4A, I-95/I-495 (Capital Beltway), Telegraph Road to MD-210, Funding, COE Section 10 and 404 Permits and CGD Bridge Permit Issuance, City of Alexandria, Fairfax County, VA; Prince George's County, MD and DC, Due: May 30, 2000. Contact: John Gerner (703) 519-9800.

EIS No. 000128, Final EIS, AFS, MT, Bull Lake Estates Road Access Project, Implementation, Easement Grant Permit, Kootenai National Forest, Three Rivers Rangers District, Lincoln County, MT, Due: May 30, 2000, Contact: Mark Natale (406) 295-4693.

Amended Notices

EIS No. 000074, Draft EIS, AFS, CO, Upper Blue Stewardship Project, Implementation of Vegetation Management, Travel Management, Designation of Dispersed Camping Sites, White River National Forest, Dillon Ranger District, Summit County, CO, Due: May 16, 2000, Contact: Kathleen Phelps (970) 468-5400. Published FR on 03/17/00 CEQ Comment Date has been extended from 5/1/2000 to 5/16/2000.

EIS No. 000091, Draft Supplement, AFS, WA, ID, OR, MT, Interior Columbia Basin Ecosystem Management Projects, Updated and New Information on three Management Alternatives, Implementation, WA, OR, ID and MT, Due: July 06, 2000, Contact: Cathy Humphrey (208) 334-1770. Published FR-4-07-00 Correction to Comment Period from 6-30-2000 to 7-06-2000.

Dated: April 24, 2000.
B. Katherine Biggs,
Associate Director, NEPA Compliance Division, Office of Federal Activities.

[FR Doc. 00-10676 Filed 4-27-00; 8:45 am]

BILLING CODE 6560-50-P